FEDERAL COMMUNICATIONS COMMISSION

47 CFR Part 27

[WT Docket No. 99-168; FCC 02-204]

Service Rules for the 746-764 and 776-794 MHz Bands

AGENCY: Federal Communications Commission.

ACTION: Final rule, petitions for reconsideration.

SUMMARY: This document responds to public safety concerns, in resolving two petitions for reconsideration filed in this proceeding. The document establishes mandatory coordination zones near public safety base stations, within which commercial base station operators will be required to coordinate their operations with public safety licensees. In adopting this document, the Commission intends to establish an anticipatory, rather than reactive, process for controlling interference to public safety operators in the upper 700 MHz band.

DATES: Effective July 30, 2002.

FOR FURTHER INFORMATION CONTACT: Stanley Wiggins, Attorney Advisor, 202-418-1310.

SUPPLEMENTARY INFORMATION: This is a summary of the Commission's Third Memorandum Opinion and Order (MO&O) in WT Docket No. 99-168; FCC 02-204, adopted July 2, 2002, and released July 12, 2002. The complete text of this M O&O is available for inspection and copying during normal business hours in the FCC Reference Information Center, Courtyard Level, 445 12th Street, SW., Washington, DC, and also may be purchased from the Commission's copy contractor, Qualex International, Portals II, 445 12th Street, SW, Room CY-B402, Washington, DC 20554, telephone 202-863-2893, facsimile 202-863-2898, or via e-mail at qualexint@aol.com. Alternative formats (computer diskette, large print, audio cassette, and Braille) are available to persons with disabilities by contacting Brian Millin at 202-418-7426, TTY 202-418-7365, or at bmillin@fcc.gov.

Synopsis of the Third Memorandum Opinion and Order

1. The Commission, in this Third Memorandum Opinion and Order (MO&O) continues its efforts to ensure the capabilities and responsiveness of both public safety and commercial wireless services in emergency situations. The MO&O responds to two petitions for reconsideration of the Second Memorandum Opinion and Order (66 FR 4035, February 6, 2001) filed by the National Public Safety Telecommunications Council (NPSTC) and the Public Safety Wireless Network.

2. Specifically, the MO&O establishes “mandatory coordination zones” near public safety base stations, within which commercial base station operators will be required to coordinate their facility decisions with public safety licensees. This will establish an anticipatory, rather than reactive process for controlling interference to public safety operators in the upper 700 MHz band. The MO&O also reflects the Commission's interest in exploring measures that would approach the other side of the interference issue, providing for more robust public safety signals rather than simply constraining Commercial Mobile Radio Service (CMRS) signals.

3. NTPSC requests that the Commission restore the original 700 MHz band plan's limitation of commercial base stations to the lower band, and argues in favor of substantially more stringent out-of-band emission (OOBE) limits. The MO&O concludes that commercial base station transmitters should continue to be permitted in the upper band and that more stringent OOBE limits are not required to protect public safety operations. This discussion may be found in paragraphs 10 through 23 of the full text of the MO&O.

4. The Commission does, however, recognize the public safety community's concern over the substantially greater burdens of resolving, rather than preventing, instances of problematic interference. The Commission determines, therefore, that additional anticipatory protections should be adopted to minimize the possibility for base-to-base interference. The Commission, in the MO&O, thus establishes a “mandatory coordination zone” surrounding 700 MHz public safety base stations, and will require any commercial 700 MHz carrier to coordinate with the public safety community any base stations planned within that zone. If a commercial carrier has already begun operating a base station within the “mandatory coordination zone” of a future public safety base station, the carrier must coordinate the operation of its base station with the licensee of any such public safety base station and relocate or modify the CMRS base station if necessary. Details of the “mandatory coordination zone” may be found in paragraphs 17 through 19 of the MO&O and in the “Rule Changes” section of this summary.

5. NPTSC also recommends that the Commission adopt a position of “zero tolerance of interference to public safety.” The Commission, as discussed in paragraphs 24 through 27 of the MO&O, declines to revise the 700 MHz service rules to adopt a “zero tolerance” approach as a means for limiting the effects of out-of-band interference, because the present 700 MHz band service rules establish a much more stringently protected environment for public safety operations than the service rules applicable to other bands. The “zero tolerance” approach would replace the Commission's traditional reliance on actual interference as a basis for mitigation measures with an anticipatory standard that would be both overbroad in concept and imprecise in application.

6. Finally, the MO&O expresses the Commission's interest in exploring proposals to increase public safety signal strength levels in the upper 700 MHz band. As indicated in paragraph 30 of the MO&O, should the public safety community wish to consider revising public safety signal strength standards governing public safety operators in the Upper 700 MHz band, the Commission would be receptive to considering such proposals.

Administrative Matters

7. The MO&O adopts a coordination regulation which constitutes a “third party contact” burden as defined by the Paperwork Reduction Act of 1995. Section 213 of the Consolidated Appropriation Act, 2000 states that the Regulatory Flexibility Act (as well as certain provisions of the Contract with America Advancement Act of 1996 and the Paperwork Reduction Act of 1995) shall not apply to the rules and competitive bidding procedures governing the frequencies in the 746-806 MHz band (currently used for television broadcasts on channels 60-69). In particular, this exemption extends to the requirements imposed by Chapter 6 of Title 5, United States Code, Section 3 of the Small Business Act (15 U.S.C. 632) and section 3507 and 3512 of Title 44 United States Code. Consolidated Appropriations Act, 2000. Public Law 106-113, 113 Stat. 2502, Appendix E, section 213(a)(4)(A)-(B); See 145 Cong. Rec. H12493-94 (November 17, 1999); 47 U.S.C.A section 337, note at section 213(a)(4)(A)-(B).

8. Authority. This action is taken pursuant to Sections 1, 4(i), 7, 10, 201, 202, 208, 214, 301, 303, 307, 308, 309(j), 309(k), 310, 311, 315, 316, 317, 319, 324, 331, 332, 336, 337 and 614 of the Communications Act of 1934, as amended, 47 U.S.C. 151, 154(i), 157, 160, 201, 202, 208, 214, 301, 303, 307, 308, 309(j), 309(k), 310, 311, 315, 316, 317, 319, 324, 331, 332, 336, 337, and 534, and the Consolidated Appropriations Act, 2000, Public Law 106-113, 113 Stat. 1501, Section 213.

Ordering Clauses

9. Part 27 of the Commission's Rules is revised as set forth in the Rule Changes section of this summary, and, in accordance with Section 213 of the Consolidated Appropriations Act, 2000, Public Law 106-113, 113 Stat. 1501 (1999), these rules shall be effective July 30, 2002.

10. The Petitions for Reconsideration filed by the National Public Safety Telecommunications Council and the Public Safety Wireless Network are denied as indicated in this summary.

11. The Commission's Consumer Information Bureau, Reference Information Center, shall send a copy of this MO&O, to the Chief Counsel for Advocacy of the Small Business Administration.

List of Subjects in 47 CFR Part 27

Radio.

Federal Communications Commission.
Marlene H. Dortch,
Secretary.

Rule Changes

For the reasons discussed in the preamble, 47 CFR part 27 is amended to read as follows:

PART 27—MISCELLANEOUS WIRELESS COMMUNICATIONS SERVICES

1. The authority citation for part 27 continues to read as follows:

Authority: 47 U.S.C. 154, 301, 302, 303, 307, 309, 332, 336, and 337 unless otherwise noted.

2. Section 27.303 is added to read as follows:

§ 27.303 Upper 700 MHz commercial and public safety coordination zone.

(a) General. CMRS operators are required, prior to commencing operations on fixed or base station transmitters on the 777-792 MHz band that are located within 500 meters of existing or planned public safety base station receivers, to submit a description of their proposed facility to a Commission-approved public safety coordinator.

(1) The description must include, at a minimum;

(i) The frequency or frequencies on which the facility will operate;

(ii) Antenna location and height;

(iii) Type of emission;

(iv) Effective radiated power;

(v) A description of the area served and the operator's name.

(2) It is the CMRS operator's responsibility to determine whether referral is required for stations constructed in its area of license. Public safety base stations are considered “planned” when public safety operators have notified, or initiated coordination with, a Commission-approved public safety coordinator.

(b) CMRS operators must wait at least 10 business days after submission of the required description before commencing operations on the referenced facility, or implementing modifications to an existing facility.

(c) The potential for harmful interference between the CMRS and public safety facilities will be evaluated by the public safety coordinator.

(1) With regard to existing public safety facilities, the coordinator's determination to disapprove a proposed CMRS facility (or modification) to be located within 500 meters of the public safety facilities will be presumed correct, but the CMRS operator may seek Commission review of such determinations. Pending Commission review, the CMRS operator will not activate the facility or implement proposed modifications.

(2) With regard to proposed public safety facilities, the coordinator's determination to disapprove a proposed CMRS facility (or modification) to be located within 500 meters of the public safety facilities will be presumed correct, but the CMRS operator may seek Commission review and, pending completion of review, operate the facility during construction of the public safety facilities. If coordination or Commission review has not been completed when the public safety facilities are ready to operate, the CMRS operator must cease operations pending completion of coordination or Commission review. Such interim operation of the CMRS facility within the coordination zone (or implementation of modifications) will not be relied on by the Commission in its subsequent review and determination of measures necessary to control interference, including relocation or modification of the CMRS facility.

(d) If, in the event of harmful interference between facilities located within 500 meters proximity, the parties are unable, with the involvement of the coordinator, to resolve the problem by mutually satisfactory arrangements, the Commission may impose restrictions on the operations of any of the parties involved.

[FR Doc. 02-19179 Filed 7-29-02; 8:45 am]

BILLING CODE 6712-01-P